DEPARTMENT OF HEALTH AND HUMAN SERVICES

Health Resources and Services Administration

Agency Information Collection Activities: Submission to OMB for Review and Approval; Public Comment Request; Environmental Information and Documentation (EID), OMB No. 0915-0324, Extension

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

² For the purposes of this table, we have rounded to the nearest hundredth decimal place, which may result in slight discrepancies in the total burden hours.

DATES: Comments on this ICR should be received no later than February 18, 2025.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Joella Roland, the HRSA Information Collection Clearance Officer, at paperwork@hrsa.gov or call (301) 443-3983.

SUPPLEMENTARY INFORMATION:

Information Collection Request Title: HRSA Environmental Information and Documentation, OMB No. 0915-0324—Extension.

Abstract: HRSA proposes an extension of the Paperwork Reduction Act approval for the Environmental Information and Documentation (EID) checklist, which consists of information that the agency is required to obtain to comply with the National Environmental Policy Act (NEPA) of 1969 as amended by the Fiscal Responsibility Act of 2023. NEPA establishes the federal government's national policy for protection of the environment. The EID checklist must be completed and submitted by applicants for HRSA funds that plan to engage in construction or other projects that will potentially impact the environment. HRSA uses the checklist to ensure that decision-making processes are consistent with NEPA and other related environmental and historic preservation laws. The extension will support HRSA's implementation of programs with capital improvements that have the potential to significantly affect the human environment, such as construction/expansion and alteration/renovation activities, as defined in the associated HRSA program guidance, or installation of fixed equipment.

A 60-day notice published in the Federal Register on October 24, 2024, 89 FR 84898, No. 2024-24732; pp. 84898 and 84899. There were no public comments.

Need and Proposed Use of the Information: Applicants for HRSA funds must provide information and assurance of compliance with NEPA on the EID checklist. This information is reviewed during the Pre-Award stage (and/or prior to the implementation of the project). The information is reviewed in the Post Award stage for project changes and the information is reviewed before the implementation of the project changes.

Likely Respondents: HRSA applicants applying for federal loan guarantees, federal construction grants, and cooperative agreements.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours:

Form name | Number of respondents | Number of responses per respondent | Total responses | Average burden per response (in hours) | Total burden hours
NEPA EID Checklist | 1,500 | 1 | 1,500 | 1 | 1,500
Total | 1,500 |  | 1,500 |  | 1,500

Maria G. Button,
Director, Executive Secretariat.

[FR Doc. 2025-01114 Filed 1-16-25; 8:45 am]

BILLING CODE 4165-15-P